ENVIRONMENTAL PROTECTION AGENCY

[EPA-HQ-OA-2006-0278; FRL-9926-69-OEI]

Information Collection Request Submitted to OMB for Review and Approval; Comment Request; Participation by Disadvantaged Business Enterprises in Procurements Under EPA Financial Assistance Agreements (Renewal)

AGENCY: Environmental Protection Agency (EPA).

ACTION: Notice.

SUMMARY: The Environmental Protection Agency has submitted an information collection request (ICR), “Participation by Disadvantaged Business Enterprises in Procurement under EPA Financial Assistance Agreements (Renewal)” (EPA ICR No. 2047.05, OMB Control No. 2090-0030) to the Office of Management and Budget (OMB) for review and approval in accordance with the Paperwork Reduction Act (44 U.S.C. 3501 et seq.). This is a proposed extension of the ICR, which is currently approved through August 31, 2015. Public comments were previously requested via the Federal Register (80 FR 10087) on February 25, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 10, 2015.

ADDRESSES: Submit your comments, referencing Docket ID No. EPA-HQ-OA-2006-0278 to (1) EPA online using www.regulations.gov (our preferred method), by email to oei.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Teree Henderson, Office of Small Business Programs, mail code: 1230T, Environmental Protection Agency, 1200 Pennsylvania Ave. NW., Washington, DC 20460; telephone number: 202-566-2222; fax number: 202-566-0548; email address: Henderson.Teree@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: EPA currently requires an entity to be certified in order to be considered a Minority Business Enterprise (MBE) or Women's Business Enterprise (WBE) under EPA's Disadvantaged Business Enterprise (DBE) Program. To qualify as an MBE or WBE under EPA's programs, an entity must establish that it is owned and/or controlled by socially and economically disadvantaged individuals who are of good character and are citizens of the United States. The EPA DBE Program also includes contract administration requirements designed to prevent unfair practices that adversely affect DBEs.

Form Numbers: 6100-1a, 6100-1b, 6100-1c, 6100-1d, 6100-1e, 6100-1f, 6100-1g, 6100-1h, 6100-1i, 6100-2, 6100-3, and 6100-4.

Respondents/Affected Entities: All recipients of EPA financial assistance agreements, and entities receiving identified loans under a financial assistance agreement capitalizing a revolving loan fund.

Respondent's Obligation to Respond: Required to obtain or retain a benefit per 40 CFR part 33, subpart B and 40 CFR part 33, subpart E.

Estimated Number of Respondents: 1,865 (total).

Frequency of Response: Certification: On occasion.

Total Estimated Burden: 11,614 hours (per year). Burden is defined at 5 CFR 1320.03(b).

Total Estimated Cost: $362,712 (per year), includes $0 annualized capital or operation & maintenance costs.

Changes in the Estimates: There is no change of hours in the total estimated respondent burden compared with the ICR currently approved by OMB.

Courtney Kerwin,
Acting Director, Collection Strategies Division.

[FR Doc. 2015-16751 Filed 7-8-15; 8:45 am]

BILLING CODE 6560-50-P